SOCIAL SECURITY ADMINISTRATION

[Docket No: SSA-2017-0036]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and an extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2017-0036].

I. The information collections below are pending at SSA. SSA will submit them to OMB within 60 days from the date of this notice. To be sure we consider your comments, we must receive them no later than September 11, 2017. Individuals can obtain copies of the collection instruments by writing to the above email address.

1. Statement of Marital Relationship (By One of the Parties)—20 CFR 404.726—0960-0038. SSA must obtain a signed statement from a spousal applicant if the applicant claims a common-law marriage to the insured in a state in which such marriages are recognized, and no formal marriage documentation exists. SSA uses information we collect on Form SSA-754-F4 to determine if an individual applying for spousal benefits meets the criteria of common-law marriage under state law. The respondents are applicants for spouse's Social Security benefits or Supplemental Security Income (SSI) payments.

Type of Request: Revision of an OMB-approved information collection.

Modality of completion | Number of respondents | Frequency of response | Average burden per response (minutes) | Estimated total annual burden (hours)
SSA-754-F4 | 30,000 | 1 | 30 | 15,000

2. Workers' Compensation/Public Disability Questionnaire—20 CFR 404.408—0960-0247. Section 224 of the Social Security Act (Act) provides for the reduction of disability insurance benefits (DIB) when the combination of DIB and any workers' compensation (WC) or certain Federal, State or local public disability benefits (PDB) exceeds 80 percent of the worker's pre-disability earnings. SSA field office staff conducts face-to-face interviews with applicants using the electronic SSA-546 WC/PDB screens in the Modernized Claims System (MCS) to determine if the worker's receipt of WC or PDB payments will cause a reduction of DIB. The respondents are applicants for the Title II DIB.

Type of Request: Extension of an OMB-approved information collection.

Modality of completion | Number of respondents | Frequency of response | Average burden per response (minutes) | Estimated total annual burden (hours)
SSA-546 MCS Screens | 248,000 | 1 | 15 | 62,000

3. Medicaid Use Report—20 CFR 416.268—0960-0267. Section 20 CFR 416.268 of the Code of Federal Regulations requires SSA to determine eligibility for: (1) Special SSI cash payments and, (2) special SSI eligibility status for a person who works despite a disabling condition. It also provides that, to qualify for special SSI eligibility status, an individual must establish that termination of eligibility for benefits under Title XIX of the Act would seriously inhibit the ability to continue employment. SSA employees collect the information this regulation requires from respondents during a personal interview. We then use this information to determine if an individual is entitled to special Title XVI SSI payments and, consequently, to Medicaid. The respondents are SSI recipients for whom SSA has stopped payments based on earnings.

Type of Request: Extension of an OMB-approved information collection.

Modality of completion | Number of respondents | Frequency of response | Average burden per response (minutes) | Estimated total annual burden (hours)
20 CFR 416.268 | 60,000 | 1 | 3 | 3,000

4. Medicare Subsidy Quality Review Forms—20 CFR 418(b)(5)—0960-0707. The Medicare Modernization Act of 2003 mandated the creation of the Medicare Part D prescription drug coverage program, and provides certain subsidies for eligible Medicare beneficiaries to help pay for the cost of prescription drugs. As part of its stewardship duties of the Medicare Part D subsidy program, SSA must conduct periodic quality review checks of the information Medicare beneficiaries report on their subsidy applications (Form SSA-1020). SSA uses the Medicare Quality Review program to conduct these checks. The respondents are applicants for the Medicare Part D subsidy whom SSA chose to undergo a quality review.

Type of Request: Revision of an OMB-approved information collection.

Modality of completion | Number of respondents | Frequency of response | Average burden per response (minutes) | Estimated total annual burden (hours)
SSA-9301 (Medicare Subsidy Quality Review Case Analysis Questionnaire) | 3,500 | 1 | 30 | 1,750
SSA-9302 (Notice of Quality Review Acknowledgement Form for those with Phones) | 3,500 | 1 | 15 | 875
SSA-9303 (Notice of Quality Review Acknowledgement Form for those without Phones) | 350 | 1 | 15 | 88
SSA-9308 (Request for Information) | 7,000 | 1 | 15 | 1,750
SSA-9310 (Request for Documents) | 3,500 | 1 | 5 | 292
SSA-9311 (Notice of Appointment—Denial—Reviewer Will Call) | 450 | 1 | 15 | 113
SSA-9312 (Notice of Appointment—Denial—Please Call Reviewer) | 50 | 1 | 15 | 13
SSA-9313 (Notice of Quality Review Acknowledgement Form for those with Phones) | 2,500 | 1 | 15 | 625
SSA-9314 (Notice of Quality Review Acknowledgement Form for those without Phones) | 500 | 1 | 15 | 125
Totals | 21,350 |  |  | 5,631

II. SSA submitted the information collections below to OMB for clearance. Your comments regarding these information collections would be most useful if OMB and SSA receive them 30 days from the date of this publication. To be sure we consider your comments, we must receive them no later than August 14, 2017. Individuals can obtain copies of the OMB clearance packages by writing to OR.Reports.Clearance@ssa.gov.

1. myWageReport—0960-NEW.

Overview

SSA is creating a new electronic wage reporting application, myWageReport.

Background

Social Security Disability Insurance (SSDI) beneficiaries receive payments based on their ability to engage in substantial gainful activity because of a physical or mental condition. SSA requires SSDI beneficiaries or their representative payees to report when beneficiaries return to work, when their amount of work increases, or when their earnings increase. Currently, SSDI beneficiaries can call our 800 number; visit a local field office (FO); or mail paystubs and earnings to their local field offices to report this information.

Section 826 of the Bipartisan Budget Act (BBA) of 2015, Pub.L. 114-74, requires SSA to offer SSDI beneficiaries the same electronic/automated receipt wage reporting methods available to Supplemental Security Income recipients, including the Internet. Accordingly, we are creating a new Internet reporting system for this purpose, myWageReport.

myWageReport

The myWageReport application will enable SSDI beneficiaries and representative payees to report earnings electronically. It will also generate a receipt for the beneficiary and/or representative payee, thus providing confirmation that SSA has received the earnings report.

SSA will screen the information submitted through the myWageReport application and will determine if we need additional employment information. If so, agency personnel will reach out to beneficiaries or their representative payees and will use Form SSA-821, Work Activity Report (0960-0059), to collect the additional required information.

The respondents for this collection are SSDI recipients or their representative payees.

Type of Request: New Information Collection Request.

Modality of completion | Number of respondents | Frequency of response | Average burden per response (minutes) | Estimated total annual burden (hours)
myWageReporting | 54,000 | 1 | 7 | 6,300

2. RS/DI Quality Review Case Analysis: Sampled Number Holder; Auxiliaries/Survivors; Parent; and Stewardship Annual Earnings Test—0960-0189. Section 205(a) of the Act authorizes the Commissioner of SSA to conduct the quality review process, which entails collecting information related to the accuracy of payments made under the Old-Age, Survivors, and Disability Insurance Program (OASDI). Sections 228(a)(3), 1614(a)(1)(B), and 1836(2) of the Act require a determination of the citizenship or alien status of the beneficiary; this is only one item that we might question as part of the Annual Quality review. SSA uses Forms SSA-2930, SSA-2931, and SSA-2932 to establish a national payment accuracy rate for all cases in payment status, and to serve as a source of information regarding problem areas in the Retirement Survivors Insurance (RSI) and Disability Insurance (DI) programs. We also use the information to measure the accuracy rate for newly adjudicated RSI or DI cases. SSA uses Form SSA-4659 to evaluate the effectiveness of the annual earnings test, and to use the results in developing ongoing improvements in the process. About twenty-five percent of respondents will have in-person reviews and receive one of the following appointment letters: (1) SSA-L8550-U3 (Appointment Letter—Sample Individual); (2) SSA-L8551-U3 (Appointment Letter—Sample Family); or (3) the SSA-L8552-U3 (Appointment Letter—Rep Payee). Seventy-five percent of respondents will receive a notice for a telephone review using the SSA-L8553-U3 (Beneficiary Telephone Contact) or the SSA-L8554-U3 (Rep Payee Telephone Contact). To help the beneficiary prepare for the interview, we include three forms with each notice: (1) SSA-85 (Information Needed to Review Your Social Security Claim) lists the information the beneficiary will need to gather for the interview; (2) SSA-2935 (Authorization to the Social Security Administration to Obtain Personal Information) verifies the beneficiary's correct payment amount, if necessary; and (3) SSA-8552 (Interview Confirmation) confirms or reschedules the interview if necessary. The respondents are a statistically valid sample of all OASDI beneficiaries in current pay status or their representative payees.

Type of Request: Revision of an OMB-approved information collection.

Modality of completion | Number of respondents | Frequency of response | Average burden per response (minutes) | Estimated total annual burden (hours)
SSA-2930 | 1,500 | 1 | 30 | 750
SSA-2931 | 850 | 1 | 30 | 425
SSA-4659 | 325 | 1 | 10 | 54
SSA-L8550-U3 | 385 | 1 | 5 | 32
SSA-L8551-U3 | 95 | 1 | 5 | 8
SSA-L8552-U3 | 35 | 1 | 5 | 3
SSA-L8553-U3 | 4970 | 1 | 5 | 414
SSA-L8554-U3 | 705 | 1 | 5 | 59
SSA-8552 | 2350 | 1 | 5 | 196
SSA-85 | 3850 | 1 | 5 | 321
SSA-2935 | 2350 | 1 | 5 | 196
SSA-8510 (also saved under OMB No. 0960-0707) | 800 | 1 | 5 | 67
Totals | 17,700 |  |  | 2,525

3. Objection to Appearing by Video Teleconferencing; Acknowledgement of Receipt (Notice of Hearing); Waiver of Written Notice of Hearing—20 CFR 404.935, 404.936; 404.938, 404.939, 416.1435, 416.1436, 416.1438, & 416.1439—0960-0671. SSA uses the information we obtain on Forms HA-55, HA-504, HA-504-OP1, HA-510, and HA-510-OP1 to manage the means by which we conduct hearings before an administrative law judge (ALJ), and the scheduling of hearings with an ALJ. We use the HA-55, Objection to Appearing by Video Teleconferencing, and its accompanying cover letter, HA-L2, to allow claimants to opt-out of an appearance via video teleconferencing (VTC) for their hearing with an ALJ. The HA-L2 explains the good cause stipulation for opting out of VTC if the claimant misses their window to submit the HA-55, and for verifying a new residence address if the claimant moved since submitting their initial hearing request. SSA uses the HA-504 and HA-504-OP1, Acknowledgement of Receipt (Notice of Hearing), and accompanying cover letter, HA-L83 to: (1) Acknowledge the claimants will appear for their hearing with an ALJ; (2) establish the time and place of the hearing; and (3) remind claimants to gather evidence in support of their claims. The only difference between the two versions of the HA-504 is the language used for the selection check boxes as determined by the type of appearance for the hearing (in-person, phone teleconference, or VTC). In addition, the cover letter, HA-L83, explains: (1) The claimants' need to notify SSA of their wish to object to the time and place set for the hearing; (2) the good cause stipulation for missing the deadline for objecting to the time and place of the hearing; and (3) how the claimants can submit, in writing, any additional evidence they would like the ALJ to consider, or any objections they have on their claims. The HA-510, and HA-510-OP1, Waiver of Written Notice of Hearing, allows the claimants to waive their right to receive the Notice of Hearing as specified in the HA-L83. We typically use these forms when there is a last minute available opening on an ALJ's schedule, so the claimants can fill in the available time slot. If the claimants agree to fill the time slot, we ask them to waive their right to receive the Notice of Hearing. We use the HA-510-OP1 at the beginning of our process for representatives and claimants who wish to waive the 75-day requirement earlier in the process, and the HA-510 later in the process for those representatives and claimants who want the full 75 days prior to the scheduled hearing. The respondents are applicants for Social Security disability payments who request a hearing to appeal an unfavorable entitlement or eligibility determination.

Type of Request: Revision of an OMB-approved information collection.

Modality of completion | Number of respondents | Frequency of response | Average burden per response (minutes) | Estimated total annual burden (hours)
HA-504 (with teleconferencing) | 898,000 | 1 | 30 | 449,000
HA-504-OP1 | 2,000 | 1 | 30 | 1,000
HA-L83 | 900,000 | 1 | 30 | 450,000
HA-L83—Good Cause for missing deadline | 5,000 | 1 | 5 | 417
HA-L83—Objection Stating Issues in Notice are Incorrect | 45,000 | 1 | 5 | 3,750
HA-55 | 850,000 | 1 | 5 | 70,833
HA-L2—Verification of New Residence | 45,000 | 1 | 5 | 3,750
HA-L2—Late Notification of Objection to VTC showing good cause | 13,500 | 1 | 10 | 2,250
HA-510; HA-510-OP1 | 4,000 | 1 | 2 | 133
Totals | 2,762,500 |  |  | 981,133

4. Social Security's Public Credentialing and Authentication Process—20 CFR 401.45 and 402—0960-0789.

Background

Authentication is the foundation for secure, online transactions. Identity authentication is the process of determining, with confidence, that someone is who he or she claims to be during a remote, automated session. It comprises three distinct factors: something you know; something you have; and something you are. Single-factor authentication uses one of the factors, and multi-factor authentication uses two or more of the factors.

SSA's Public Credentialing and Authentication Process

SSA offers consistent authentication across SSA's secured online services. We allow our users to request and maintain only one User ID, consisting of a self-selected username and password, to access multiple Social Security electronic services. Designed in accordance with the OMB Memorandum M-04-04 and the National Institute of Standards and Technology (NIST) Special Publication 800-63, this process provides the means of authenticating users of our secured electronic services and streamlines access to those services.

SSA's public credentialing and authentication process:

• Issues a single User ID to anyone who wants to do business with the agency and meets the eligibility criteria;

• Partners with an external Identity Services Provider (ISP) to help us verify the identity of our online customers;

• Complies with relevant standards;

• Offers access to some of SSA's heaviest, but more sensitive, workloads online while providing a high level of confidence in the identity of the person requesting access to these services;

• Offers an in-person process for those who are uncomfortable with or unable to use the Internet process;

• Balances security with ease of use; and

• Provides a user-friendly way for the public to conduct extended business with us online instead of visiting local servicing offices or requesting information over the phone. Individuals have real-time access to their Social Security information in a safe and secure web environment.

Public Credentialing and Authentication Process Features

We collect and maintain the users' personally identifiable information (PII) in our Central Repository of Electronic Authentication Data Master File Privacy Act system of records, which we published in the Federal Register (75 FR 79065). The PII may include the users' name; address; date of birth; Social Security number (SSN); phone number; and other types of identity information [e.g., address information of persons from the W-2 and Schedule Self Employed forms we receive electronically for our programmatic purposes as permitted by 26 U.S.C. 6103(l)(1)(A)]. We may also collect knowledge-based authentication data, which is information users establish with us or that we already maintain in our existing Privacy Act systems of records.

We retain the data necessary to administer and maintain our e-Authentication infrastructure. This includes management and profile information, such as blocked accounts; failed access data; effective date of passwords; and other data allowing us to evaluate the system's effectiveness. The data we maintain also may include archived transaction data and historical data.

We use the information from this collection to identity proof and authenticate our users online, and to allow them access to their personal information from our records. We also use this information to provide second factor authentication. We are committed to expanding and improving this process so we can grant access to additional online services in the future.

Offering online services is not only an important part of meeting SSA's goals, but is vital to good public service. In increasing numbers, the public expects to conduct complex business over the Internet. Ensuring SSA's online services are both secure and user-friendly is our priority. We awarded a competitively bid contract to an ISP, Equifax,¹ to help us verify the identity of our online customers. We use this ISP, in addition to our other authentication methods, to help us prove, or verify, the identity of our customers when they are completing online or electronic transactions with us.

¹ Equifax is a global information solutions provider. Equifax's solutions help Social Security to manage risk and mitigate fraud.

Social Security's Authentication Strategy

We remain committed to enhancing our online services using authentication processes that balance usability and security. We will continue to research and develop new authentication tools while monitoring the emerging threats.

The following are key components of our authentication strategy:

• Enrollment and Identity Verification—Individuals who meet the following eligibility requirements may enroll:

○ Must have a valid email address;

○ Must have a valid Social Security number (SSN);

○ Must have a domestic address of record (includes military addresses); and

○ Must be at least 18 years of age.

We collect identifying data and use SSA and ISP records to verify an individual's identity. Individuals have the option of obtaining an enhanced, stronger, User ID by providing certain financial information (e.g., Medicare wages, self-employed earnings, or the last eight digits of a credit card number) for verification. We also ask individuals to answer out-of-wallet questions so we can further verify their identities. Individuals who are unable to complete the process online can present identification at a field office to obtain a User ID.

• Establishing the User Profile—The individual self-selects a username and password, both of which can be of variable length and alphanumeric. We provide a password strength indicator to help the individual select a strong password. We also ask the individual to choose challenge questions for use in restoring a lost or forgotten username or password.

• Provide a Second Factor—We ask the individual to provide a text message enabled cell phone number or an email address. We consider the cell phone number or email address the second factor of authentication. We send a security code to the individual's selected second factor. We require the individual to confirm its receipt by entering the security code online. Subsequently, each time the individual attempts to sign in to his or her online account, we will also send a message with a one-time security code to the individual's selected second factor. The individual must enter the security code along with his or her username and password. The code is valid for only 10 minutes. If the individual does not enter the code within 10 minutes, the code expires, and the individual must request another code.

• Enhancing the User ID—If individuals opt to enhance or upgrade their User IDs, they must provide certain financial information for verification. We mail a one-time-use upgrade code to the individual's verified residential address. When the individual receives the upgrade code in the mail, he or she can enter this code online to enhance the security of the account. With extra security, we continue to require the individuals to sign in using their username, password, and a one-time security code we send to their second factor email address or cell phone number (whichever the users listed in their account).

• Sign in and Use—Our authentication process provides an individual with a User ID for access to our sensitive online Social Security services. Second factor authentication requires the individual to sign in with a username, password, and a one-time security code sent to the individual's selected second factor. SSA expanded its existing capabilities to require second factor authentication for every online sign in. We also allow for maintenance of the second factor options. An individual who forgets the password can reset it automatically without contacting SSA.

Social Security's Enrollment Process

The enrollment process is a one-time only activity. SSA requires the individuals to agree to the “Terms of Service” detailed on our Web site before we allow them to begin the enrollment process. The “Terms of Service” inform the individuals what we will and will not do with their personal information, and the privacy and security protections we provide on all data we collect. These terms also detail the consequences of misusing this service.

To verify the individual's identity, we ask the individual to give us minimal personal information, which may include:

• Name;

• SSN;

• Date of birth;

• Address—mailing and residential;

• Telephone number;

• Email address;

• Financial information;

• Cell phone number; and

• Selecting and answering password reset questions.

We send a subset of this information to the ISP, who then generates a series of out-of-wallet questions back to the individual. The individual must answer all or most of the questions correctly before continuing in the process. The exact questions generated are unique to each individual. This collection of information, or a subset of it, is mandatory for respondents who want to do business with SSA via the Internet. We collect this information via the Internet, on SSA's public-facing Web site. We also offer an in-person identification verification process for individuals who cannot, or are not willing, to register online. For this process, the individual must go to a local SSA field office and provide identifying information. We do not ask for financial information with the in-person process.

We only collect the identity information one time, when the individual registers for a credential. We ask for the User ID (username and password),and we send a security code to the individual's registered second factor (cell phone or email), for every sign in. The individual is required to provide the security code back to us during the online registration and sign in processes, for both standard accounts and accounts with extra security. The respondents are individuals who choose to use the Internet or Automated Telephone Response System to conduct business with SSA.

Type of Request: Revision of an OMB-approved information collection.

Modality of completion | Number of respondents | Frequency of response | Average burden per response (minutes) | Estimated total annual burden (hours)
Internet Requestors | 52,698,441 | 1 | 8 | 7,026,459
In-Person (Intranet) Requestors | 3,407,319 | 1 | 8 | 454,309
Totals | 56,105,760 |  |  | 7,480,768

Dated: July 10, 2017.
Naomi R. Sipple,
Reports Clearance Officer, Social Security Administration.

[FR Doc. 2017-14722 Filed 7-12-17; 8:45 am]

BILLING CODE 4191-02-P